NUCLEAR REGULATORY COMMISSION

Sunshine Act Meeting

DATES: Weeks of May 7, 14, 21, 28, June 4, 11, 2001.

PLACE: Commissioiners' Conference Room, 11555 Rockville Pike, Rockville, Maryland.

STATUS: Public and Closed.

MATTERS TO BE CONSIDERED:

Week of May 7, 2001

Thursday, May 10, 2001

10:25 a.m.

Affirmation Session (Public Meeting) (Tentative)

a: Northeast Nuclear Energy Company (Millstone Nuclear Power Station, Unit No. 3; Facility Operating License NPF-49) Partial Review of LBP-00-26 (10/26/00), as directed by CLI-01-03 (1/17/01) Regarding Interpretation of GDC 62, Prevention of Criticality in Fuel Storage & Handling

10:30 a.m.

Briefing on Office of Nuclear Regulatory Research (RES) Programs and Performance (Public Meeting) (Contact: James Johnson, 301-415-6802)

Friday, May 11, 2001

10:30 a.m.

Meeting with Advisory Committee on Reactor Safeguards (ACRS) (Public Meeting) (Contact: John Larkins, 301-415-7360)

Week of May 14, 2001—Tentative

There are no meetings scheduled for the Week of May 14, 2001.

Week of May 21, 2001—Tentative

There are no meetings scheduled for the Week of May 21, 2001.

Week of May 28, 2001—Tentative

Wednesday, May 30, 2001

10:25 a.m.

Affirmation Session (Public Meeting) (If needed)

Week of June 4, 2001—Tentative

Tuesday, June 5, 2001

9:25 a.m.

Affirmation Session (Public Meeting) (If needed)

2 p.m.

Discussion of Management Issues (Closed-Ex. 2)

Wednesday, June 6, 2001

10:30 a.m.

All Employees Meeting (Public Meeting)

1:30 p.m.

All Employees Meeting (Public Meeting)

Week of June 11, 2001—Tentative

Thursday, June 14, 2001

9:25 a.m.

Affirmation Session (Public Meeting) (If needed)

9:30 a.m.

Meeting with Nuclear Waste Technical Review Board (Public Meeting)

1:30 p.m.

Briefing on License Renewal Program (Public Meeting) (Contact: David Solorio, 301-415-1973)

*The schedule for Commission meetings is subject to change on short notice. To verify the status of meetings call (recording)—(301) 415-1292. Contact person for more information: David Louis Gamberoni (301) 415-1651.

The NRC Commission Meeting Schedule can be found on the Internet at: http://www.nrc.gov/SECY/smj/schedule.htm

This notice is distributed by mail to several hundred subscribers; if you no longer wish to receive it, or would like to be added to the distribution, please contact the Office of the Secretary, Washington, D.C. 20555 (301-415-1969). In addition, distribution of this meeting notice over the Internet system is available. If you are interested in receiving this Commission meeting schedule electronically, please send an electronic message to dkw@nrc.gov.

Dated: May 3, 2001.
David Louis Gamberoni,
Technical Coordinator, Office of the Secretary.

[FR Doc. 01-11513 Filed 5-3-01; 8:45 am]

BILLING CODE 7590-01-M